FEDERAL RESERVE SYSTEM

Government in the Sunshine Meeting Notice

Agency Holding the Meeting: Board of Governors of the Federal Reserve System.

Time and Date: 11:30 a.m., Monday, August 23, 2010.

Place: Marriner S. Eccles Federal Reserve Board Building, 20th and C Streets, NW., Washington, DC 20551.

Status: Closed.

Matters to be Considered: 1. Implications of Dodd-Frank Reform Act for Board Organization and Staffing. (This item was originally announced on July 27, 2010, for a closed meeting on August 3, 2010.)

For more information please contact: Michelle Smith, Director, or Dave Skidmore, Assistant to the Board, Office of Board Members at 202-452-2955.

SUPPLEMENTARY INFORMATION: You may call 202-452-3206 beginning at approximately 5 p.m. two business days before the meeting for a recorded announcement of bank and bank holding company applications scheduled for the meeting; or you may contact the Board's Web site at http://www.federalreserve.gov for an electronic announcement that not only lists applications, but also indicates procedural and other information about the meeting.

Dated: August 16, 2010.
Robert deV. Frierson,
Deputy Secretary of the Board.

[FR Doc. 2010-20677 Filed 8-17-10; 11:15 am]

BILLING CODE 6210-01-P